DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Statutory Invention Registration.

Form Number(s): PTO/SB/94.

Agency Approval Number: 0651-0036.

Type of Request: Extension of a currently approved collection.

Burden: 29 hours annually.

Number of Respondents: 73 responses per year.

Avg. Hours Per Response: The USPTO estimates that it will take 24 minutes (0.4 hours) to submit a Statutory Invention Registration request. This includes time to gather the necessary information, create the documents, and submit the completed request.

Needs and Uses: 35 U.S.C. 157, administered by the USPTO through 37 CFR 1.298-1.297, authorizes the USPTO to publish a statutory invention registration containing the specifications and drawings of a regularly filed application for a patent without examination, providing the applicant meets all the requirements for printing, waives the right to receive a patent on the invention within a certain period of time prescribed by the USPTO, and pays all application, publication, and other processing fees. This collection includes information needed by the USPTO to review and approve and/or deny such requests. The applicant may petition the USPTO to review final refusal to publish or to withdraw a request to publish a statutory invention registration prior to the date of the notice of the intent to publish.

Affected Public: Individuals or households; business or other for-profit; not-for-profit institutions; farms, the Federal Government, and State, Local or Tribal Governments.

Frequency: On occasion.

Respondent's Obligation: Required to obtain or retain benefits.

OMB Desk Officer: David Rostker, (202) 395-3897.

Copies of the above information collection proposal can be obtained by calling or writing Susan K. Brown, Records Officer, Office of Data Architecture and Services, Data Administration Division, (703) 308-7400, USPTO, Suite 310, 2231 Crystal Drive, Washington, DC 20231, or by e-mail at susan.brown@uspto.gov.

Written comments and recommendations for the proposed information collection should be sent on or before April 4, 2003 to David Rostker, OMB Desk Officer, Room 10202, New Executive Office Building, Washington, DC 20503.

Dated: February 25, 2003.
Susan K. Brown,
Records Officer, USPTO, Office of Data Architecture and Services, Data Administration Division.

[FR Doc. 03-5135 Filed 3-4-03; 8:45 am]

BILLING CODE 3510-16-P